DEPARTMENT OF LABOR

Employment and Training Administration

[TA-W-51,655]

Timeplex, LLC, a Division of Platinum Equity Holdings, Hackensack, New Jersey; Notice of Affirmative Determination Regarding Application for Reconsideration

By letter of July 3, 2003, a petitioner requested administrative reconsideration of the Department of Labor's Notice of Negative Determination Regarding Eligibility to Apply for Worker Adjustment Assistance, applicable to workers of the subject firm. The denial notice was signed on June 10, 2003, and published in the Federal Register on June 19, 2003 (68 FR 36846).

The Department reviewed the request for reconsideration and has determined that a survey of subject firm customers is merited to establish whether imports contributed to layoffs in the petitioning worker group.

Conclusion

After careful review of the application, I conclude that the claim is of sufficient weight to justify reconsideration of the Department of Labor's prior decision. The application is, therefore, granted.

Signed at Washington, DC this 21st day of November, 2003.
Linda G. Poole,
Certifying Officer, Division of Trade Adjustment Assistance.

[FR Doc. 03-31301 Filed 12-18-03; 8:45 am]

BILLING CODE 4510-30-P